PEACE CORPS

Agency Information Collection Under Review by the Office of Management and Budget

AGENCY: Peace Corps.

ACTION: Notice of submission for OMB Review, comment request.

SUMMARY: The Peace Corps has submitted an information collection to the Office of Management and Budget for review under the provisions of the Paperwork Reduction Act of 1995. The Peace Corps Volunteer Information Card, OMB Number 0420-0007, is required under the Peace Corps Act for Volunteer recruitment purposes. This is a renewal of an active OMB Control Number. No comments were received in response to the Peace Corps' earlier Federal Register Notice (August 14, 2001, Volume 66, Number 157, p. 42696 for 60 days). The Peace Corps is not proposing any changes to the Peace Corps Volunteer Information Card.

DATES: Submit comments on or before December 16, 2001.

ADDRESSES: Comments should be addressed to Ms. DeDe Dunevant, Office of Communications, Peace Corps, 1111 20th Street, NW., Room 8407, Washington, DC 20526. Ms. Dunevant can be contacted by telephone at 202-692-2205 or 800-424-8580. ext 2205 or email at ddunevant@peacecorps.gov. Email comments must be made in text and not in attachments.

FOR FURTHER INFORMATION CONTACT: Ms. DeDe Dunevant, Office of Communications, Peace Corps, 1111 20th Street, NW., Room 8407, Washington, DC 20526. Ms. Dunevant can be contacted by telephone at 202-692-2205 or 800-424-8580. ext 2205 or email at ddunevant@peacecorps.gov. Email comments must be made in text and not in attachments.

SUPPLEMENTARY INFORMATION: OMB Control Number: 0420-0007.

Title: Peace Corps Volunteer Information Card.

Type of Review: Renewal, without change, of a previously approved collection that will expire December 31, 2001.

Respondents: Public.

Number of Respondents: None.

Need and Uses: This form is completed voluntarily by potential Peace Corps Volunteers in order to identify prospective applicants and process the applicants for Volunteer service. This information, which is gathered by paper copy in the form of response devices such as postage paid business reply cards, bookmarks, and reply devices that are used in directing potential applicants to the electronic on-line version of the Peace Corps application, is used to determine initial qualifications of potential for applicants. The Peace Corps needs this information in order to identify prospective applicants for Volunteer service. This information is used to provide information to interested individuals generally and in accordance with the fulfillment of the first goal of the Peace Corps as required by Congressional legislation and to enhance the Peace Corps Volunteer process.

This notice is issued in Washington, DC on November 9, 2001.
July Van Rest,
Associate Director for Management.

[FR Doc. 02-1547 Filed a-22-02; 8:45 am]

BILLING CODE 6051--1-M